DEPARTMENT OF ENERGY

Energy Information Administration

Agency Information Collection Activities: Proposed Collection; Comment Request

AGENCY: Energy Information Administration (EIA), Department of Energy (DOE).

ACTION: Agency information collection activities: proposed collection; comment request.

SUMMARY: The EIA is soliciting comments on the proposed reinstatement of the Form EIA-871A/I, and the proposed new EIA-871J, “2003 Commercial Buildings Energy Consumption Survey.”

DATES: Comments must be filed by January 6, 2003. If you anticipate difficulty in submitting comments within that period, contact the person listed below as soon as possible.

ADDRESSES: Send comments to Martha Johnson. To ensure receipt of the comments by the due date, submission by FAX ((202) 586-0018) or e-mail (martha.johnson@eia.doe.gov) is recommended. The mailing address is Martha Johnson, Survey Manager, EI-63/Forrestal Building, U.S. Department of Energy, Washington, DC 20585-0660. Alternatively, Ms. Johnson may be contacted by telephone at (202) 586-1135.

FOR FURTHER INFORMATION CONTACT: Requests for additional information or copies of any forms and instructions should be directed to Martha Johnson at the address listed above.

SUPPLEMENTARY INFORMATION

I. Background

II. Current Actions

III. Request for Comments

I. Background

The Federal Energy Administration Act of 1974 (Pub. L. 93-275, 15 U.S.C. 761 et seq.) and the DOE Organization Act (Pub. L. 95-91, 42 U.S.C. 7101 et seq.) require the EIA to carry out a centralized, comprehensive, and unified energy information program. This program collects, evaluates, assembles, analyzes, and disseminates information on energy resource reserves, production, demand, technology, and related economic and statistical information. This information is used to assess the adequacy of energy resources to meet near and longer-term domestic demands.

The EIA, as part of its effort to comply with the Paperwork Reduction Act of 1995 (Pub. L. 104-13, 44 U.S.C. chapter 35), provides the general public and other Federal agencies with opportunities to comment on collections of energy information conducted by or in conjunction with the EIA. Any comments received help the EIA to prepare data requests that maximize the utility of the information collected, and to assess the impact of collection requirements on the public. Also, the EIA will later seek approval by the Office of Management and Budget (OMB) under section 3507(a) of the Paperwork Reduction Act of 1995.

The Commercial Buildings Energy Consumption Survey (CBECS) has been conducted seven times covering the years 1979, 1983 and 1986 under the name of the “Nonresidential Buildings Energy Consumption Survey”, and years 1989, 1992, 1995 and 1999 under the current name, “Commercial Buildings Energy Consumption Survey”. CBECS collects baseline data on energy consumption and expenditures in commercial buildings, and on the energy-related characteristics of those buildings. To obtain this information, interviews are conducted for a sample of commercial buildings in the 50 States and the District of Columbia. For buildings in the survey, data are collected on the types, amount and cost of energy consumed in the building, how the energy is used, structural characteristics of the buildings, activities conducted inside the buildings that relate to energy use, building ownership and occupancy, energy conservation measures, and energy-using equipment. The information will be collected using Computer Assisted Personal Interviewing (CAPI) for the 2003 CBECS. For those buildings that cannot provide energy consumption data for the building, the data will be obtained in a mail survey from the suppliers of electricity, natural gas, fuel oil and district heat to the building, after receiving permission from the building owner, manager or tenant. This mail survey to the energy suppliers is mandatory. The data obtained from this survey are available to the public in a variety of EIA electronic tables and reports at http://www.eia.doe.gov/emeu/cbecs. Public use files that have been screened to protect the identity of the individual respondents are also available electronically at the above web address. Selected data from the surveys are also published in the Monthly Energy Review and the Annual Energy Review.

II. Current Actions

This will be a proposed reinstatement of a previously approved collection and three-year clearance request to OMB. The request in the expiration data will extend the EIA-871A/J to November 30, 2005.

Anticipated changes for the 2003 CBECS include:

• A complete redesign of the sample, to include new Primary Sampling Units (PSU), Secondary Sampling Units (SSU) and segments.

• Collecting the data in a personal interview (rather than by telephone) using CAPI.

• Collecting energy data from a subsample of establishments within enclosed shopping malls and strip shopping centers.

• Collecting limited energy data from university facilities and hospital complexes as a whole on Form EIA-871J.

• Reinstating select energy-related building characteristics questions (Form EIA-871A) that are of a high priority to CBECS data users. These building characteristics include building footprint and equipment renovation questions.

• Expanding some energy-related building characteristics questions to assist in the analysis of the CBECS data. These questions focus on new energy technology and include expanded office equipment questions, specifically related to digital technology, and expanded heating and cooling equipment questions.

• Reformatting the Building Characteristics Questionnaire (Form EIA-871A) so that fewer respondents are asked all questions.

III. Request for Comments

Prospective respondents and other interested parties should comment on the actions discussed in item II. The following guidelines are provided to assist in the preparation of comments. “Please indicate to which form(s) your comments apply.”

General Issues

A. Is the proposed collection of information necessary for the proper performance of the functions of the agency and does the information have practical utility? Practical utility is defined as the actual usefulness of information to or for an agency, taking into account its accuracy, adequacy, reliability, timeliness, and the agency's ability to process the information it collects.

B. What enhancements can be made to the quality, utility, and clarity of the information to be collected?

As a Potential Respondent to the Request for Information

A. What actions could be taken to help ensure and maximize the quality, objectivity, utility, and integrity of the information to be collected?

B. Are the instructions and definitions clear and sufficient? If not, which instructions need clarification?

C. Can the information be submitted by the due date?

D. Public reporting burden for this collection is estimated to average approximately 45 minutes per interview for the building respondent and approximately 30 minutes per energy supplier response in those cases where the data must be collected from the energy suppliers (Forms EIA-871C-F). The estimated burden includes the total time necessary to provide the requested information. In your opinion, how accurate is this estimate?

E. The agency estimates that the only cost to a respondent is for the time it will take to complete the collection. Will a respondent incur any start-up costs for reporting, or any recurring annual costs for operation, maintenance, and purchase of services associated with the information collection?

F. What additional actions could be taken to minimize the burden of this collection of information? Such actions may involve the use of automated, electronic, mechanical, or other technological collection techniques or other forms of information technology.

G. Does any other Federal, State, or local agency collect similar information? If so, specify the agency, the data element(s), and the methods of collection.

As a Potential User of the Information To Be Collected

A. What actions could be taken to help ensure and maximize the quality, objectivity, utility, and integrity of the information disseminated?

B. Is the information useful at the levels of detail to be collected?

C. For what purpose(s) would the information be used? Be specific.

D. Are there alternate sources for the information and are they useful? If so, what are their weaknesses and/or strengths?

Comments submitted in response to this notice will be summarized and/or included in the request for OMB approval of the form. They also will become a matter of public record.

Statutory Authority: Section 3507(h)(1) of the Paperwork Reduction Act of 1995 (Pub. L. 104-13, 44 U.S.C. chapter 35).

Issued in Washington, DC, October 30, 2002.
Jay H. Casselberry,
Agency Clearance Officer, Statistics and Methods Group, Energy Information Administration.

[FR Doc. 02-28065 Filed 11-4-02; 8:45 am]

BILLING CODE 6450-01-P